DEPARTMENT OF COMMERCE

Foreign-Trade Zones Board

[B-62-2020]

Foreign-Trade Zone (FTZ) 266—Dane County, Wisconsin; Notification of Proposed Production Activity, Coating Place, Inc. (Pharmaceuticals), Verona, Wisconsin

Coating Place, Inc. (CPI) submitted a notification of proposed production activity to the FTZ Board for its facility in Verona, Wisconsin. The notification conforming to the requirements of the regulations of the FTZ Board (15 CFR 400.22) was received on October 16, 2020.

The applicant has submitted a separate application for FTZ designation at the company's facility under FTZ 266. The facility is used for the contract manufacturing of pharmaceutical products. Pursuant to 15 CFR 400.14(b), FTZ activity would be limited to the specific foreign-status material and specific finished product described in the submitted notification (as described below) and subsequently authorized by the FTZ Board.

Production under FTZ procedures could exempt CPI from customs duty payments on the foreign-status component used in export production. On its domestic sales, for the foreign-status material noted below, CPI would be able to choose the duty rate during customs entry procedures that applies to lasmiditan drug product intermediate (duty free). CPI would be able to avoid duty on foreign-status material which become scrap/waste. Customs duties also could possibly be deferred or reduced on foreign-status production equipment.

The material sourced from abroad is lasmiditan hemisuccinate active pharmaceutical ingredient (duty rate, 6.5%).

Public comment is invited from interested parties. Submissions shall be addressed to the Board's Executive Secretary and sent to: ftz@trade.gov. The closing period for their receipt is December 7, 2020.

A copy of the notification will be available for public inspection in the “Reading Room” section of the Board's website, which is accessible via www.trade.gov/ftz.

For further information, contact Diane Finver at Diane.Finver@trade.gov or (202) 482-1367.

Dated: October 21, 2020.
Andrew McGilvray,
Executive Secretary.

[FR Doc. 2020-23662 Filed 10-23-20; 8:45 am]

BILLING CODE 3510-DS-P